DEPARTMENT OF THE INTERIOR

Fish and Wildlife Service

[FWS-R7-R-2013-N156; FF07RKNA00 FXRS12610700000 134]

Notice of Hunting and Trapping Restrictions Within the Skilak Wildlife Recreation Area (Skilak Loop Management Area) of Kenai National Wildlife Refuge, Alaska

AGENCY: Fish and Wildlife Service, Department of Interior.

ACTION: Notice of permanent closure and restrictions.

SUMMARY: This notice advises the public that the Fish and Wildlife Service—Alaska Region is permanently closing and/or restricting hunting and trapping within the Skilak Wildlife Recreation Area (Skilak Loop Management Area), a portion of the Kenai National Wildlife Refuge. This action is consistent with refuge management plans and objectives and historic State of Alaska hunting and trapping regulations (regulations in effect from 1987 to 2012, and as amended in 2007 and 2012).

DATES: The effective date of the closures and restrictions in this notice is November 10, 2013.

FOR FURTHER INFORMATION CONTACT: Andy Loranger, Refuge Manager, Kenai National Wildlife Refuge, P.O. Box 2139, Soldotna, AK 99669; Telephone (907) 262-7021; Fax (907) 262-3359; email andy_loranger@fws.gov.

SUPPLEMENTARY INFORMATION:

Areas Affected and Closure/Restrictions

This notice applies to the Skilak Wildlife Recreation Area (Skilak Loop Management Area), a 44,000-acre area of the Kenai National Wildlife Refuge (Refuge) which is bound by a line beginning at the easternmost junction of the Sterling Highway and the Skilak Loop Road (Mile 58), then due south to the south bank of the Kenai River, then southerly along the south bank of the Kenai River to its confluence with Skilak Lake, then westerly along the north shore of Skilak Lake to Lower Skilak Campground, then northerly along the Lower Skilak campground road and the Skilak Loop Road to its westernmost junction with the Sterling Highway (Mile 75.1), then easterly along the Sterling Highway to the point of origin. A map of the area is available at Refuge Headquarters and is posted at informational kiosks within the area.

The Skilak Wildlife Recreation Area (Skilak Loop Management Area) is closed to hunting and trapping by this notice, except that moose may be taken by permit (issued by the Alaska Department of Fish and Game) only, and small game may be taken from October 1 through March 1 by falconry and bow and arrow only, and by standard .22 rimfire or shotgun in that portion of the area west of a line from the access road from the Sterling Highway to Kelly Lake, the Seven Lakes Trail, and the access road from Engineer Lake to Skilak Lake Road, and north of the Skilak Lake Road, during each weekend from November 1 to December 31, including the Friday following Thanksgiving, by youth hunters 16 years old or younger accompanied by a licensed hunter 18 years old or older who has successfully completed a certified hunter education course, or was born on or before January 1, 1986, if the youth has not. State of Alaska bag limit regulations apply.

Permit moose hunts are administered by the Alaska Department of Fish and Game. Through mutual agreement with the Fish and Wildlife Service, a permitted antlerless moose hunt is allowed when the results of a fall survey (conducted cooperatively between the Alaska Department of Fish and Game and the Service every other year at a minimum if snow cover is adequate) tallies at least 130 animals. A permitted spike-fork bull hunt is allowed during the following season when aerial composition surveys conducted each year before December 1 indicate the bull:cow ratio is greater than 40:100.

Reasons for Closure and Restrictions

The 1.98 million-acre Kenai National Wildlife Refuge (Refuge) was first established as the Kenai National Moose Range by Executive Order 8979 on December 16, 1941. The Range was reestablished as the Kenai National Wildlife Refuge in 1980 when the Alaska National Interest Lands Conservation Act (ANILCA), Public Law. 96-487, 94 Stat. 2371 (1980) was enacted. The Executive Order purpose was primarily to “ . . . protect the natural breeding and feeding range of the giant Kenai moose on the Kenai Peninsula, Alaska . . .” ANILCA states the purposes of the Refuge include: “(i) to conserve fish and wildlife populations and habitats in their natural diversity including, but not limited to moose, bear, mountain goats, Dall sheep, wolves and other furbearers, salmonids and other fish, waterfowl and other migratory and nonmigratory birds; (ii) to fulfill the international treaty obligations of the United States with respect to fish and wildlife and their habitats; (iii) to ensure to the maximum extent practicable and in a manner consistent with the purposes set forth in paragraph (i), water quality and necessary water quantity with the refuge; (iv) to provide in a manner consistent with subparagraphs (i) and (ii), opportunities for scientific research, interpretation, environmental education, and land management training; and (v) to provide, in a manner compatible with these purposes, opportunities for fish and wildlife oriented recreation.” ANILCA also designated approximately 1.3 million acres of the Refuge as Wilderness, to which the purposes and provisions of the Wilderness Act of 1964, Public Law 88-577, apply, except as modified by ANILCA. These purposes are to secure an enduring resource of wilderness, to protect and preserve the wilderness character of areas within the National Wilderness Preservation System, and to administer this wilderness system for the use and enjoyment of the American people in a way that will leave them unimpaired for future use and enjoyment as wilderness.

The National Wildlife Refuge System Administration Act of 1966, as amended (16 U.S.C. 668dd-668ee) recognizes six wildlife-dependent recreational uses as priority public uses of the Refuge System: hunting, fishing, wildlife observation and photography, environmental education and interpretation. These uses are legitimate and appropriate public uses where compatible with the Refuge System mission and the individual refuge purposes, and are to receive enhanced consideration over other uses in planning and management. All six of the priority public uses have been determined compatible and are authorized on the Refuge.

Section 304(g) of ANILCA directs the Secretary of Interior “to prepare, and from time to time, revise, a comprehensive conservation plan for each refuge (in Alaska) . . .”. In 1985, the Service released a Record of Decision for the Refuge's first Comprehensive Conservation Plan. A directive of this plan was the establishment of a special area, the “Skilak Loop Special Management Area,” that would be managed to increase opportunities for wildlife viewing, environmental education and interpretation. In December 1986, the Service, working closely with the Alaska Department of Fish and Game, identified specific goals for providing wildlife viewing and interpretation opportunities, and hunting and trapping opportunities were restricted so wildlife would become more abundant, less wary and more easily observed. Regulatory proposals that prohibited trapping, allowed taking a small game by archery only, and provided a moose hunt by special permit were developed and approved by the Alaska Board of Game in 1987. These State of Alaska regulations remained in effect until 2013, with modifications to allow for a youth-only firearm small game hunt in a portion of the area in 2007, and for the use of falconry to take small game in 2012.

In 1988, to further development of wildlife viewing, environmental education and interpretation opportunities, the Service prepared a step-down plan for public use facility management and development and renamed the area the Skilak Wildlife Recreation Area. Improvements to existing and development of new visitor facilities occurred in ensuing years as funding permitted, and included new and improved roads, scenic turn-outs, campgrounds, hiking trails, interpretive panels and information kiosks, viewing platforms and boat launches.

In 2005, the Alaska Board of Game adopted a proposal to allow firearms hunting and small game and fur animals (as practical matter in the area, fur animals would include lynx, coyote, beaver, red fox and squirrel), but subsequently put the regulation on hold pending the Service's development of an updated management plan for the area. The Service initiated a public planning process with a series of public workshops in November 2005, and evaluated management alternatives through an Environmental Assessment which was made available for public review and comment in November 2006.

The Service released a Finding of No Significant Impact, and the Kenai National Wildlife Refuge Skilak Wildlife Recreation Area Revised Final Management Plan was released in June 2007. Under this plan, the overall management direction for the Skilak Wildlife Recreation Area as a special area to be managed primarily for enhanced opportunities for wildlife viewing, environmental education and interpretation while allowing other non-conflicting wildlife-dependent recreational activities, first established under the 1985 Comprehensive Conservation Plan, was reaffirmed. Additional future facility developments and improvements in support of providing such opportunities were identified, and longstanding restrictions on hunting (including hunting of fur animals) and a trapping closure were maintained, with the exception of adding the “youth-only” small game firearms hunt in the western portion of the area. State of Alaska regulations maintaining the closures and restrictions, and opening the “youth-only” small game firearm hunt, were adopted by the Alaska Board of Game in 2007.

In March 2013 the Alaska Board of Game adopted a proposal that would allow taking of lynx, coyote, and wolf within the area under State of Alaska hunting regulations. Under this regulation, which became effective July 1, 2013, taking of these species is allowed during open seasons from November 10 to March 31.

The Service has determined that the change to State of Alaska hunting regulations in the Skilak Wildlife Recreation Area (Skilak Loop Management Area) to allow taking of lynx, coyote and wolf directly conflicts with approved refuge management plans. As was first recognized in the original 1986 plans and specific management objectives for furbearers which led to the closure of hunting and trapping of these species in the Skilak Wildlife Recreation Area, furbearers such as wolves, coyote and lynx are not as easily observed as more abundant and/or less wary wildlife species. These species occur in relatively low densities, and annual removal of individual wolves, coyote or lynx from the Skilak Wildlife Recreation Area, and/or a change in their behavior, due to hunting would reduce opportunities for the public to view, photograph or otherwise experience these species. Similarly, Refuge environmental education and interpretation programs which benefit from the enhanced opportunities provided in the area to view or otherwise experience these species would be negatively impacted.

Providing for non-consumptive educational and recreational uses, as well as for hunting and fishing, are legally mandated Refuge purposes under ANILCA. Opportunities to view or photograph wildlife, or to learn through environmental education and interpretation programs, represent a highly valued experience for many Refuge visitors. The Skilak Wildlife Recreation Area, which comprises approximately two percent of land area of the Refuge, contributes to meeting those refuge purposes. Hunting and trapping of lynx, coyote and wolves remains authorized on over 97% of the Refuge (over 1.9 million acres).

The Service has reviewed its 2007 management plan and associated Environmental Assessment for the Skilak Wildlife Recreation Area, and its 2007 Compatibility Determination for hunting on the Refuge, and has determined that the information evaluated and decisions rendered regarding management direction for the area and compatibility of hunting remain current and valid. The continuation of hunting and trapping restrictions under this Federal closure, to include a closure on the hunting and trapping of lynx, coyote and wolf, is necessary to ensure that Service objectives to provide enhanced wildlife viewing, environmental education and interpretation opportunities in the area continue to be met. Meeting Refuge public use objectives in the Skilak Wildlife Recreation Area is consistent with and directly supports meeting specific Refuge purposes under ANILCA for providing the public opportunities for environmental education and interpretation and for a variety of wildlife-dependent recreational activities including wildlife viewing and photography. Administration of non-conflicting hunting activities and use of firearms in the Skilak Wildlife Recreation Area through regulation and in a manner which supports meeting all Refuge purposes, minimizes conflicts among user groups, and ensures public safety, is necessary to ensure the compatibility of hunting as an authorized use on the Kenai National Wildlife Refuge.

Public Hearings Held and Comments Considered

Pursuant to 50 CFR 36.42, the Service held public hearings to provide notice of the proposed permanent closure and to receive public input. Hearings were held on July 31 and August 1, 2013 in Soldotna and Anchorage, Alaska respectively. In addition, written comments were accepted through August 16, 2013. A total of 26 people testified at the public hearings, 18 of them expressed support for the proposed Service action. Among this group were representatives of five organizations speaking in favor of the action: Friends of Alaska Refuges (which also said it spoke for The Wilderness Society), the Alaska Wildlife Alliance, the Sierra Club, Friends of Kenai National Wildlife Refuge and the Center for Biological Diversity. Seven speakers were opposed including a representative of the Alaska Department of Fish and Game. They basically favored the State's change to the hunting regulations opening the area up to more hunting. One person expressed general opposition to all hunting and trapping.

A total of 180 written comments were submitted via email, fax, or mail. Of these, 78 supported the closure and addressed the area's importance for non-consumptive uses by the public. Of these written comments, 29 appear to be form comments with no individual statement. The remaining 49 contained some comment personal to the writer. Included in the written comments supporting the closure and restrictions were written statements by five organizations: Kachemak Bay Conservation Society, Defenders of Wildlife, the National Parks Conservation Association, the Alaska Wildlife Alliance, and the Center for Biological Diversity. Among the remaining written comments were 93 individuals who expressed opposition to opening hunting or trapping in the area because of opposition to hunting or trapping in general, and/or to hunting and trapping on a national wildlife refuge or of predators specifically. Nine written comments expressed opposition to the Service's proposed action and support for the State's Board of Game's change. In addition to the Alaska Department of Fish and Game, the Kenai Peninsula Chapter of the Safari Club International was among those opposing the Service action and supporting the State's change.

The Service considered all of the oral and written comments. It concludes that maintaining the closure on the take of lynx, coyote and wolf is necessary to meet the Refuge management plan objectives to provide for enhanced opportunities for wildlife viewing, environmental education, and interpretation in the Skilak Wildlife Recreation Area. This decision is in keeping with the Refuge purposes under ANILCA and furthers the public use objectives that have consistently been identified for management of the area since 1985. Designating and administering the Skilak Wildlife Recreation Area in support of these purposes, while allowing for additional non-conflicting uses in the area, is a proper management approach which recognizes the obligation to provide educational and both consumptive, and non-consumptive, wildlife-dependent recreational opportunities for the public on the Refuge.

Authority

This closure notice is pursuant to 50 CFR 36.42 for permanent closures or restrictions on Alaska National Wildlife Refuges. Authorities for this action are found within the National Wildlife Refuge Administration Act of 1966, as amended by the National Wildlife Refuge System Improvement Act of 1997 (16 U.S.C. 668dd-668ee); the Refuge Recreation Act of 1962 (16 U.S.C. 460k-460k-4); and the Alaska National Interest Lands Conservation Act of 1980, Public Law 96-487, 94 Stat. 2371 (1980).

Geoffrey L. Haskett,
Regional Director, Alaska Region, U.S. Fish and Wildlife Service, Anchorage, Alaska.

[FR Doc. 2013-26021 Filed 11-1-13; 8:45 am]

BILLING CODE 4310-55-P